ENVIRONMENTAL PROTECTION AGENCY

[EPA-HQ-OAR-2012-0632; FRL—9729-1]

Request for Comment on Letters Seeking a Waiver of the Renewable Fuel Standard; Extension of Comment Period

AGENCY: Environmental Protection Agency (EPA).

ACTION: Notice; extension of comment period regarding letters seeking a waiver of the renewable fuel standard.

SUMMARY: The U.S. Environmental Protection Agency (EPA) is announcing an extension of the public comment period associated with the Notice entitled “Request for Comment on Letters Seeking a Waiver of the Renewable Fuel Standard” that was published in the Federal Register on August 30, 2012. EPA has received several requests for an extension of the comment period and, in response, has decided to allow an additional fifteen days, to October 11, 2012, for the submission of public comment.

Dates: Comments. Written comments must be received on or before October 11, 2012.

ADDRESSES: Submit your comments, identified by Docket ID No. EPA-HQ-OAR-2012-0632, by one of the following methods:

• www.regulations.gov: Follow the on-line instructions for submitting comments.

• Email: a-and-r-docket@epa.gov.

• Fax: (202) 566-1741.

• Mail: Air and Radiation Docket, Docket ID No. EPA-HQ-OAR-2012-0632, Environmental Protection Agency, Mailcode: 6102T, 1200 Pennsylvania Avenue NW., Washington, DC 20460. Please include a total of two copies.

• Hand Delivery: EPA Docket Center, Public Reading Room, EPA West Building, Room 3334, 1301 Constitution Avenue NW., Washington, DC 20460. Such deliveries are only accepted during the Docket's normal hours of operation, and special arrangements should be made for deliveries of boxed information.

Instructions: Direct your comments to Docket ID No. EPA-HQ-OAR-2012-0632. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Dallas Burkholder, Office of Transportation and Air Quality, Environmental Protection Agency, National Vehicle and Fuel Emissions Laboratory, 2565 Plymouth Road, Ann Arbor, MI 48105; telephone number: (734) 214-4766; fax number: (734) 214-4050; email address: burkholder.dallas@epa.gov.

SUPPLEMENTARY INFORMATION: Background: In a Federal Register Notice dated August 30, 2012 (77 FR 52715), EPA provided notice of its receipt of requests for a waiver of required volumes of renewable fuel under the Renewable Fuel Standard (“RFS”) program, and invited public comment on those requests. As more fully described in the August 30, 2012 Notice, Governors of several States have submitted separate requests for an RFS waiver. Section 211(o)(7)(A) of the Clean Air Act allows the Administrator of the EPA to waive the national volume requirements of the renewable fuel standard program in whole or in part if implementation of those requirements would severely harm the economy or environment of a State, a region, or the United States, or if the Administrator determines that there is inadequate domestic supply of renewable fuel.

Extension of Comment Period: EPA received requests for an extension of the comment period from various parties. After considering these comments, EPA has determined that an extension of the comment period would appropriately provide the public additional time to provide meaningful comment on the Renewable Fuel Standard waiver requests. Any such extension, however, must be balanced against the need to make a timely decision with respect to the waiver requests. EPA believes that an additional 15 days is an appropriate amount of time to balance these needs. Accordingly, the public comment period on the RFS waiver requests is extended to October 11, 2012. EPA does not currently anticipate that it will provide any further extension of the comment period.

Dated: September 10, 2012.
Gina McCarthy,
Assistant Administrator, Office of Air and Radiation.

[FR Doc. 2012-22969 Filed 9-17-12; 8:45 am]

BILLING CODE 6560-50-P